DEPARTMENT OF THE INTERIOR

National Park Service

36 CFR Part 7

RIN 1024-AD79

Special Regulations; Areas of the National Park System

AGENCY: National Park Service.

ACTION: Interim rule with request for comments.

SUMMARY: The National Park Service (NPS) is closing the historic residence of President of the United States Truman at the Harry S Truman National Historic Site to all public use through May 30, 2010. This action is necessary because the house is undergoing major repairs and restoration. All furniture and artifacts that are key to interpretive tours for the public will be removed for the project to protect them. The restoration and repair activities will also create conditions that are a hazard to the public health and safety. Closure of the home will allow completion of a process that will restore to original appearance and protect and conserve the historic home of President Truman and its contents.

DATES: Effective Date: October 6, 2009.

Comment Date: November 5, 2009.

ADDRESSES: You may submit comments, identified by the number 1024-AD79, by any of the following methods:

—Federal rulemaking portal: http://www.regulations.gov. Follow the instructions for submitting comments.

—Mail: National Park Service, Larry Villalva, Superintendent, Harry S Truman National Historic Site, 223 North Main Street, Independence, MO 64050.

Instructions: All submissions received must include the agency name and docket number or Regulatory Information Number (RIN) for this rulemaking. All comments received will be posted without change to http://www.regulations.gov, including any personal information provided.

FOR FURTHER INFORMATION CONTACT: Superintendent Larry Villalva, at Harry S Truman National Historic Site. Telephone 816-254-2720.

SUPPLEMENTARY INFORMATION:

Background

The Truman Home's construction and conservation projects are part of the National Park Service Centennial Initiative, which was introduced in May 2007. The initiative is a 9-year plan to improve facilities and services in the National Park Service for the 100th anniversary of the agency in 2016. One of the main goals of the initiative is stewardship of natural and cultural resources in our National Parks, including rehabilitation, restoration and maintenance of treasured cultural resources such as the Truman Home. The home is a Victorian style mansion which was built in 1867 and became part of the National Park System in 1983. It served as the residence and home of Harry S Truman, 33rd President of the United States, from 1919 until his death in 1972.

During the park closure, four projects will be completed: installation of a new HVAC system, installation of a fire suppression system, repair of structural deficiencies, and rehabilitation of walls, ceilings and historic wall covering materials. Prior to the these construction projects, the historic furniture and furnishings within the home's first and second story will be removed and placed in curatorial storage. The first floor rooms which normally are visited by the public during interpretive tours will require their furniture to also be removed in order to protect the items from accidental damage by moving equipment into or out of various work locations within the house, and in order to protect the artifacts from fine dust caused by construction activities and other potential falling ceiling debris.

The furniture removal is a very concise process involving detailed photography and mapping documentation in order to insure that each item is returned to its exact original location upon completion of the work.

Historic wallpaper has been removed from the dining room and upstairs bedroom areas for cleaning, repairing, and reinstallation by a paper conservator. Plaster located in many areas throughout the home has failed as a result of deterioration and exposure to moisture which caused ceilings to buckle, and walls to either bulge or crack.

The existing HVAC system installed in 1985 is failing to maintain a stable environment in the Truman Home. This compromises the longevity of not only the homes infrastructure, but also the thousands of artifacts on exhibit and in storage within the home. Plans include installation of three HVAC units to stabilize the interior environment. This project requires removal of flooring on the second floor and attic to install ductwork. With the floor cavities open a fire suppression system will be installed.

Suspension of tours of the home for the visiting public during the construction period is justified in order to allow the construction to proceed efficiently, to prevent public exposure to construction activities and noise, as well as fine particulates and falling debris, and the danger of the movement of equipment in and out of the structure.

There will be some minor effect on a few small businesses in the area but there is no way to avoid it. The remainder of the park will remain open throughout the year and the NPS will offer the public other programs which will be conducted on the Truman Home grounds and at other nearby Truman related sites. Closure of the Truman Home cannot be avoided without compromising the quality and cost of renovation of the home.

It is necessary for the regulation to become effective upon publication in order to allow necessary construction activities scheduled to proceed. Comments are being accepted for a period of 30 days in order to address questions or requests for additional information from the readers.

Drafting Information

The following persons participated in the writing of this regulation: Larry Villalva, Superintendent, Harry S Truman National Historic Site, Carol Dage, Curator, Harry S Truman National Historic Site, James Loach, Associate Regional Director, Midwest Regional Office, Omaha, Nebraska and Philip Selleck, Chief, Regulations and Special Park Uses, NPS, Washington, DC.

Compliance With Other Laws

Paperwork Reduction Act

This rule contains no information collection requirements which require approval by the Office of Management and Budget under 44 U.S.C. 3501 et seq.

Regulatory Planning and Review (Executive Order 12866)

This document is not a significant rule and the Office of Management and Budget has not reviewed this rule under Executive Order 12866. We have made the assessments required by E.O. 12866 and the results are given below.

1. This rule will not have an effect of $100 million or more on the economy. It will not adversely affect in a material way the economy, productivity, competition, jobs, the environment, public health or safety, or State, local, or tribal governments or communities. The area proposed to be restricted through this rulemaking is being closed only during the Truman Home repair, preservation and protection construction activities stabilizing the structure, replacing the HVAC systems and adding a fire suppression system.

2. This rule will not create a serious inconsistency or otherwise interfere with an action taken or planned by another agency. The closure is confined to one building located within a unit of the National Park System, which is neither managed nor occupied by any other agency.

3. This rule does not alter the budgetary effects of entitlements, grants, user fees, or loan programs or the rights or obligations of their recipients. The rule is confined to a closure for public safety and protection of the historic resource, and does not regulate any financial programs or matters.

4. This rule does not raise novel legal or policy issues. Closure of a historic structure for restoration is a normal procedure for assuring public safety, minimizing interruption of the restoration process, and protection of the building and contents while construction is ongoing.

Regulatory Flexibility Act

The Department of the Interior certifies that this document will not have a significant economic effect on a substantial number of small entities under the Regulatory Flexibility Act (5 U.S.C. 601 et seq.). The economic effects of this rule are local in nature and negligible in scope. The primary purpose of this rule is to close the Truman Home during preparation and completion of necessary construction activities. The restriction is necessary in order to allow the construction to proceed and protect the public from the hazards associated with that construction

Small Business Regulatory Enforcement Fairness Act (SBREFA)

This rule is not a major rule under 5 U.S.C. 804(2), the Small Business Regulatory Enforcement Fairness Act. This rule:

a. Does not have an annual effect on the economy of $100 million or more. This rule will only affect those who will not be able to visit the interior of the Truman Home during the closure.

b. Will not cause a major increase in costs or prices for consumers, individual industries, federal, state, or local government agencies, or geographic regions. There will be no costs associated with this closure.

c. Does not have significant adverse effects on competition, employment, investment, productivity, innovation, or the ability of U.S.-based enterprises to compete with foreign-based enterprises. The primary purpose of this regulation is to implement a closure to allow necessary construction activities to proceed safely and efficiently in order to carry out the protection and preservation of the Truman Home structure. This rule will not change the ability of United States based enterprises to compete in any way.

Unfunded Mandates Reform Act

This rule does not impose an unfunded mandate on State, local, or tribal governments or the private sector of more than $100 million per year. The rule does not have a significant or unique effect on State, local or tribal governments or the private sector. The restrictions under this regulation do not have a significant effect or impose an unfunded mandate on any agency or on the private sector. This rule applies only to federal parkland administered by the National Park Service at Truman Home, and no costs will be incurred by any non-federal parties.

Takings (Executive Order 12630)

Under the criteria in Executive Order 12630, this rule does not have significant takings implications. This rule does not apply to private property, or cause a compensable taking, so there are no takings implications.

Federalism (Executive Order 13132)

In accordance with Executive Order 13132, the rule does not have sufficient federalism implications to warrant the preparation of a Federalism Assessment. This regulation will not have a substantial direct effect on the states, or on the distribution of power and responsibilities among the various levels of government. The rule addresses public access to the Truman Home structure at Harry S Truman National Monument. The affected land is under the administrative jurisdiction of the National Park Service.

Civil Justice Reform (Executive Order 12988)

This rule complies with the requirements of Executive Order 12988. Specifically, this rule:

a. Meets the criteria of section 3(a) requiring that all regulations be reviewed to eliminate errors and ambiguity and be written to minimize litigation; and

b. Meets the criteria of section 3(b)(2) requiring that all regulations be written in clear language and contain clear legal standards

National Environmental Policy Act

This rule does not constitute a major Federal action significantly affecting the quality of the human environment. A detailed statement under the National Environmental Policy Act of 1969 is not required because the rule is covered by a categorical exclusion.

The Interim Guidance for NPS Director's Order 12 contains a listing of Categorical Exclusions. Section 3.4 (C)(4) of that guidance provides that “repairs to cultural resource sites, structures, utilities and grounds” are categorically excluded “if the action would not adversely affect the cultural resource”. Completion of an environmental screening form disclosed that the adoption of this regulation would result in no measurable adverse environmental effects. In compliance with terms of the National Historic Preservation Act, we executed a Section 106 clearance, recording it on the “XXX” form. Copies of the clearance can be obtained through the park superintendent, as listed under the FOR FURTHER INFORMATION CONTACT section.

We have also determined that the rule does not involve any of the extraordinary circumstances listed in 43 CFR 46.215 that would require further analysis under the National Environmental Policy Act. As such, a categorical exclusion is the appropriate form of NEPA compliance for this regulatory action.

Government-to-Government Relationship With Tribes

Under the criteria in Executive Order 13175, we have evaluated this rule and determined that it has no potential effects on federally recognized Indian tribes. This interim rule is temporary, is limited to the closure of the Truman house, does not affect any other area of the park, and does not involve items or interests of federally recognized Indian tribes.

Information Quality Act

In developing this rule we did not conduct or use a study, experiment, or survey requiring peer review under the Information Quality Act (Pub. L. 106-554).

Effects on the Energy Supply (E.O. 13211)

This rule is not a significant energy action under the definition in Executive Order 13211. A Statement of Energy Effects is not required.

Clarity of This Regulation.

We are required by Executive Orders 12866 and 12988 and by the Presidential Memorandum of June 1, 1998, to write all rules in plain language. This means that each rule we publish must:

a. Be logically organized;

b. Use the active voice to address readers directly;

c. Use clear language rather than jargon;

d. Be divided into short sections and sentences; and

e. Use lists and tables wherever possible.

If you feel that we have not met these requirements, send us comments by one of the methods listed in the ADDRESSES section. To better help us revise the rule, your comments should be as specific as possible. For example, you should tell us the numbers of the sections or paragraphs that you find unclear, which sections or sentences are too long, the sections where you feel lists or tables would be useful, etc.

Public Availability of Comments

Before including your address, phone number, e-mail address, or other personal identifying information in your comment, you should be aware that your entire comment—including your personal identifying information—may be made publicly available at any time. While you can ask us in your comment to withhold your personal identifying information from public review, we cannot guarantee that we will be able to do so.

Drafting Information: The primary authors of this rule are: Larry Villalva, Superintendent, Harry S Truman Home; James Loach, Associate Regional Director, Midwest Regional Office, NPS, Omaha, NE, and Philip Selleck, Chief, Regulations and Special Park Uses, NPS, Washington, DC.

List of Subjects in 36 CFR Part 7

National Parks, Reporting and recordkeeping requirements.

For the reasons stated in the preamble, the National Park Service amends 36 CFR part 7 as follows:

PART 7—SPECIAL REGULATIONS, AREAS OF THE NATIONAL PARK SYSTEM

1. The authority for part 7 is revised to read as follows:

Authority: 16 U.S.C. 1, 3, 9a, 462(k); Sec. 7.96 also issued under DC Code 10-137 (2001) and DC Code 50-2201 (2001).

2. Add § 7.94 to read as follows:

§ 7.94 Harry S Truman National Historic Site.

The Truman Home structure at Harry S Truman National Historic Site is closed to all public use and access until June 1, 2010.

Dated: September 24, 2009.
Will Shafroth,
Acting Assistant Secretary for Fish and Wildlife and Parks.

[FR Doc. E9-24020 Filed 10-5-09; 8:45 am]

BILLING CODE 4312-BA-P\